DEPARTMENT OF COMMERCE

Census Bureau

Evaluation of Responses to the Question on Race

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before February 5, 2001.

ADDRESSES: Direct all written comments to Madeleine Clayton, Departmental Forms Clearance Officer, Department of Commerce, Room 6086, 14th and Constitution Avenue, NW., Washington, DC 20230 (or via the Internet at mclayton@doc.gov).

FOR FURTHER INFORMATION CONTACT: Requests for additional information or copies of the information collection instrument(s) and instructions should be directed to Christine Hough, Bureau of the Census, Building 2, Rm: 1801-MOD B, Washington, DC 20233-9200, 301-457-4248.

SUPPLEMENTARY INFORMATION:

I. Abstract

On October 30, 1997, the Office of Management and Budget (OMB) issued revised standards by which all federal agencies, beginning with Census 2000, are to collect, tabulate, and present data on race and ethnicity. Included in these standards was the identification of five racial categories—White, Black or African American, American Indian or Alaskan Native, Asian, and Native Hawaiian or Other Pacific Islander. For the 1990 census, sixteen specific racial response categories that collapsed into the 1977 four racial categories were used—White, Black or African American, American Indian or Alaskan Native, and Asian or Pacific Islander. The standards also included changes in the terminology used for each group and the sequencing of the questions on race and Hispanic origin. In the 1990 census, the question on race preceded the question on Hispanic origin with two intervening questions. For Census 2000, the question on Hispanic origin is immediately before the question on race with a note to respondents to answer both questions. The most profound change to the standards was that of allowing respondents to report more than one race if they chose to do so. Some of the impetus for the OMB change to allow the reporting of one or more races came from the increasing number of interracial marriages and births to parents of different races in the past 25 to 35 years. For many census data users, both governmental and non-governmental as well as the private sector, there is a need to understand how the Census 2000 race distributions relate to race distributions from previous censuses and current surveys where respondents were instructed to report only one race.

Data by race from most federal surveys currently reflect a collection methodology of asking respondents to mark only one race category. Users of the Census 2000 data on race will need to compare the race distribution from Census 2000 to these other sources. The objective of the study is to produce data that will improve users' ability to make comparisons between Census 2000 data on race that allowed the reporting of one or more races, and data on race from other sources that allow single race reporting. The primary goal is to improve comparisons of 1990 and Census 2000 race distributions, at national and lower geographic levels. Other goals are to facilitate comparisons between Census 2000 and Census Bureau surveys which instruct respondents to mark one race, and with data from the vital records system which uses census data to calculate such indicators as birth and death rates.

II. Method of Collection

The methodology for the evaluation requires that the sample households be contacted twice to provide information on race. The sample households are mailed an initial questionnaire which they are scheduled to receive around July 1, 2001. Approximately one month later, the sample households are re-contacted by telephone to collect additional race and other information. The evaluation requires the administration of both the 1990 question on race and the Census 2000 question on race in a split panel design. A total sample of about 50,000 addresses will be selected containing respondents who reported more than one race, as well as addresses where respondents reported a single race in Census 2000.

For the initial data collection, one panel of about 25,000 housing units will be enumerated using a questionnaire similar to the Census 2000 short form with the 1990 census instruction to the question on race, that is, to “mark one race.” The other panel of about 25,000 housing units will be enumerated using the identical questionnaire, except the instruction to the question on race will include the wording “mark one or more races.” Census 2000 data collection methods will be used including the mailout/mailback procedure along with personal interviewing for those addresses that do not respond via mail. We are assuming a 50 percent initial mail response rate. Therefore, nonresponse follow-up procedures similar to those used for Census 2000 will be implemented. Results from each of the panels will be matched to their Census 2000 results. The match variables will include the name, age, date of birth, and sex of the sample housing unit members. Every effort will be made to capture data for people who moved into the sample address and ascertain the previous address at which they were enumerated in Census 2000. However, no efforts will be made to trace movers; that is, we will not ask information about people who have moved out of the sample addresses since April 1, 2000.

A reverse questionnaire design procedure will be used to re-contact housing units that participated in the initial data collection. Sample housing units that participated in the intial data collection with the mark one or more races instruction will be re-contacted by telephone and asked to report one race. Those housing units that received the mark one race instruction will be asked to mark one or more races. For housing units for which there is no telephone, personal interviews will be conducted to collect the re-contact information. The questions on both the re-contact instruments will be similar; only minor modifications will be made to probe for additional information in instances where respondents are reluctant to report a single race when asked to do so. During the re-contact, every effort will be made to speak with the individual who completed the initial questionnaire. To facilitate this effort, data from the initial questionnaires will be transcribed onto the re-contact instruments. During the re-contact interview, respondents will be asked to provide additional relevant information, including the race of biological parents, and other pertinent social, demographic, and economic data.

The goal is to produce reliable estimates that replicate, to the extent possible, the Census 2000 race distributions in terms of the percent reporting a single race, more than one race, and the distribution of the responses among a pre-determined number of possible race combinations. It is likely that less than 20 combinations will be identified.

III. Data

OMB Number: Not available.

Form Number(s): S-698A, S-698B.

Type of Review: Regular.

Affected Public: Individuals or households.

Estimated Number of Respondents: 50,000.

Estimated Time Per Response: 15 minutes.

Estimated Total Annual Burden Hours: 25,000.

Estimated Total Annual Cost: There is no cost to respondents except for their time to respond.

Respondents Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 30, 2000.
Madeleine Clayton,
Departmental Forms Clearance Officer, Office of the Chief Information Officer.

[FR Doc. 00-30960 Filed 12-5-00; 8:45 am]

BILLING CODE 3510-07-P